DEPARTMENT OF COMMERCE

International Trade Administration

[A-580-809 ]

Circular Welded Non-Alloy Steel Pipe From the Republic of Korea: Amended Final Results of the Antidumping Duty Administrative Review

AGENCY: Import Administration, International Trade Administration, Department of Commerce.

SUMMARY: On June 21, 2011, the Department of Commerce (the “Department”) published its final results of review covering the period November 1, 2008, through October 31, 2009. See Circular Welded Non-Alloy Steel Pipe From the Republic of Korea: Final Results of the Antidumping Duty Administrative Review, 76 FR 36089 (June 21, 2011) (“Final Results”). Hyundai HYSCO alleged that the Department made a ministerial error in those Final Results. Based on our analysis of the allegation, we have made changes to the weighted-average dumping margin assigned to Hyundai HYSCO.

DATES: Effective Date: July 25, 2011.

FOR FURTHER INFORMATION CONTACT: Joshua Morris or Matthew Jordan, AD/CVD Operations, Office 1, Import Administration, International Trade Administration, U.S. Department of Commerce, 14th Street and Constitution Avenue, NW., Washington, DC 20230; telephone (202) 482-1779 or (202) 482-1540, respectively.

SUPPLEMENTARY INFORMATION:

Background

On June 16, 2011, Hyundai HYSCO, a producer/exporter not selected for individual examination in this review, alleged that the Department made a ministerial error in the cash deposit rate assigned to the company. No rebuttal comments were received.

Final Determination of No Shipments

In the Preliminary Results, the Department preliminarily concluded that Hyundai HYSCO had no knowledge that entries ascribed to it were destined for or entered into the United States during the period of review. See Circular Welded Non-Alloy Steel Pipe From the Republic of Korea: Preliminary Results of the Antidumping Duty Administrative Review, 75 FR 77838 (December 14, 2010) (“Preliminary Results”). We also noted that a dumping margin had been calculated for Hyundai HYSCO in a prior segment of this proceeding. In the Final Results, we failed to address these preliminary conclusions and, instead, assigned to Hyundai HYSCO the cash deposit rate for other companies not selected for individual examination.

We are now amending the Final Results to reflect the Department's determination that Hyundai HYSCO had no reviewable U.S. sales. See Memorandum to Ronald K. Lorentzen, Deputy Assistant Secretary for Import Administration from Gary Taverman, Acting Deputy Assistant Secretary for Antidumping and Countervailing Duty Operations, dated July 19, 2011, RE: “Ministerial Error for Final Results of Review.”

The Department no longer rescinds reviews of companies with no entries. Instead, we complete the review and issue appropriate instructions to U.S. Customs and Border Protection (“CBP”) based on the final results of the review (see, e.g., Magnesium Metal From the Russian Federation: Final Results of Antidumping Duty Administrative Review, 75 FR 56989 (September 17, 2010)). Specifically, when the company has an individual cash deposit rate from the most recent segment of the proceeding in which the company had shipments and sales, we do not assign that company a new cash deposit rate. Additionally, when the company had no entries, we instruct CBP to liquidate any existing entries of merchandise produced by the company and exported by other parties at the all-others rate.

Amended Margins for the Final Results of Review

We continue to determine that a weighted-average dumping margin exists for the three mandatory respondents, SeAH Steel Corporation (“SeAH”), Husteel Co., Ltd. (“Husteel”), and Nexteel Co., Ltd. (“Nexteel”), for the period November 1, 2008, through October 31, 2009. Respondents other than mandatory respondents and Hyundai HYSCO continue to receive the weighted-average of the margins calculated for SeAH, Husteel, and Nexteel.

Manufacturer/exporter | Weighted- average margin percent
SeAH Steel Corporation | 4.99
Husteel Co., Ltd | 2.25
Nexteel Co., Ltd | 12.90
Hyundai HYSCO | *
Kumkang Industrial Co., Ltd | 8.17
A-JU Besteel Co., Ltd | 8.17
* No entries or sales subject to this review. The firm has an individual dumping margin from a previous segment of the proceeding in which the firm had entries and sales.

Cash Deposit Requirements for Hyundai HYSCO

The cash deposit rate for Hyundai HYSCO will be revised to reflect the rate it was assigned in the most recent review in which it participated and had sales and entries of subject merchandise. This cash deposit requirement will be in effect until further notice. This cash deposit requirement will be effective for all shipments of subject merchandise produced by Hyundai HYSCO and entered or withdrawn from warehouse for consumption on or after the publication of the Final Results, as provided for by section 751(a)(2)(C) of the Act.

Assessment Rate for Hyundai HYSCO

The Department will issue appropriate assessment instructions for Hyundai HYSCO directly to CBP 15 days after the date of publication of these amended final results of review. As explained above, we will instruct CBP to liquidate any entries at the all-others rate established in the less-than-fair-value (“LTFV”) investigation if there is no assessment rate for the intermediate companies involved in the transaction. See Final Determination of Sales at Less Than Fair Value; Circular Welded Non-Alloy Steel Pipe From the Republic of Korea, 57 FR 42942, 42945 (September 17, 1992); see also Antidumping and Countervailing Duty Proceedings: Assessment of Antidumping Duties, 68 FR 23954 (May 6, 2003).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

This notice also serves as a reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These amended final results of review are issued and published in accordance with sections 751(a)(1) and 777(i)(1) of the Act.

Dated: July 19, 2011.
Ronald K. Lorentzen,
Deputy Assistant Secretary for Import Administration.

[FR Doc. 2011-18713 Filed 7-22-11; 8:45 am]

BILLING CODE 3510-DS-P